DEPARTMENT OF TRANSPORTATION

Federal Aviation Administration

14 CFR Part 139

[Docket No. FAA-2010-0247; Notice No. 11-01]

RIN 2120-AJ70

Safety Enhancements Part 139, Certification of Airports; Reopening of Comment Period

AGENCY: Federal Aviation Administration (FAA), DOT.

ACTION: Notice of proposed rulemaking (NPRM); Reopening of comment period.

SUMMARY: The FAA published a proposed rule on February 1, 2011, to establish minimum standards for training of personnel who access the airport non-movement area (ramp and apron) to help prevent accidents and incidents in that area. This proposal would require a certificate holder to conduct pavement surface evaluations to ensure reliability of runway surfaces in wet weather conditions. This proposed action would also require a Surface Movement Guidance Control System (SMGCS) plan if the certificate holder conducts low visibility operations, facilitating the safe movement of aircraft and vehicles in low visibility conditions. Finally, this proposal would clarify the applicability of part 139 and explicitly prohibit fraudulent or intentionally false statements in a certificate application or record required to be maintained. After the comment period closed, the FAA became aware that the initial regulatory evaluation had not been posted to the rulemaking docket. This action reopens the comment period to allow the public to review and comment on that document, which is now in the docket.

DATES: The comment period for the NPRM published on February 1, 2011 (76 FR 5510), closed on April 4, 2011, and was reopened (76 FR 20570) April 13, 2011, until May 13, 2011. This document reopens the comment period until July 5, 2011.

ADDRESSES: You may send comments identified by Docket Number FAA-2010-0247 using any of the following methods:

• Federal eRulemaking Portal: Go to http://www.regulations.gov and follow the online instructions for sending your comments electronically.

• Mail: Send comments to Docket Operations, M-30; U.S. Department of Transportation (DOT), 1200 New Jersey Avenue, SE., Room W12-140, West Building Ground Floor, Washington, DC 20590-0001.

• Hand Delivery or Courier: Take comments to Docket Operations in Room W12-140 of the West Building Ground Floor at 1200 New Jersey Avenue, SE., Washington, DC, between 9 a.m. and 5 p.m., Monday through Friday, except Federal holidays.

• Fax: Fax comments to Docket Operations at 202-493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue, SE., Washington, DC, between 9 a.m. and 5 p.m., Monday through Friday, except Federal holidays.

FOR FURTHER INFORMATION CONTACT: Kenneth Langert, AAS-300, Office of Airports Safety and Standards, Federal Aviation Administration, 800 Independence Avenue, SW., Washington, DC 20591, telephone (202) 493-4529; e-mail kenneth.langert@faa.gov.

SUPPLEMENTARY INFORMATION: See the “Additional Information” section for information on how to comment on this proposal and how the FAA will handle comments received. The “Additional Information” section also contains related information about the docket, privacy, the handling of proprietary or confidential business information. In addition, there is information on obtaining copies of related rulemaking documents.

Background

On February 1, 2011, the FAA issued Notice No. 11-01, entitled “Safety Enhancements Part 139, Certification of Airports” (76 FR 5510). The comment period closed on April 4, 2011. On April 13, 2011, the FAA reopened the comment period for 30 days to allow additional opportunity to comment on the NPRM (76 FR 20570). The comment period then closed on May 13, 2011.

During the comment period, several commenters stated the FAA's economic evaluation for this proposed rule was not available for review and comment. That document is now in the rulemaking docket. The FAA recognizes additional time is necessary to review and comment on the initial regulatory evaluation.

Reopening of Comment Period

In accordance with § 11.47(c) of title 14, Code of Federal Regulations, the FAA has determined that re-opening of the comment period is consistent with the public interest, and that good cause exists for taking this action. To accomplish the strategies for providing additional information to the public, the FAA has determined that re-opening the comment period is consistent with the public interest, and that good cause exists for this action. Absent unusual circumstances, the FAA does not anticipate any further extension of the comment period for this rulemaking.

Accordingly, the comment period for Notice No. 11-01 is reopened until July 5, 2011.

Additional Information

A. Comments Invited

The FAA invites interested persons to participate in this rulemaking by submitting written comments, data, or views. The agency also invites comments relating to the economic, environmental, energy, or federalism impacts that might result from adopting the proposals in Notice No. 11-01. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on Notice 11-1, the FAA will consider all comments it receives on or before the closing date for comments. The FAA will consider comments filed after the comment period has closed if it is possible to do so without incurring expense or delay. The agency may change this proposal in light of the comments it receives.

Proprietary or Confidential Business Information: Do not file proprietary or confidential business information in the docket. Such information must be sent or delivered directly to the person identified in the FOR FURTHER INFORMATION CONTACT section of this document, and marked as proprietary or confidential. If submitting information on a disk or CD-ROM, mark the outside of the disk or CD-ROM, and identify electronically within the disk or CD-ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

1. Searching the Federal eRulemaking Portal (http://www.regulations.gov);

2. Visiting the FAA's Regulations and Policies Web page at http://www.faa.gov/regulations_policies or

3. Accessing the Government Printing Office's Web page at http://www.gpoaccess.gov/fr/index.html.

Copies may also be obtained by sending a request to the Federal Aviation Administration, Office of Rulemaking, ARM-1, 800 Independence Avenue, SW., Washington, DC 20591, or by calling (202) 267-9680. Commenters must identify the docket or notice number of this rulemaking.

All documents the FAA considered in developing this Notice 11-01, including economic analyses and technical reports, may be accessed from the Internet through the Federal eRulemaking Portal referenced in item (1) above.

Issued in Washington, DC, on May 25, 2011.
Michael J. O'Donnell,
Director of Airport Safety and Standards.

[FR Doc. 2011-13824 Filed 6-2-11; 8:45 am]

BILLING CODE 4910-13-P